NATIONAL SCIENCE FOUNDATION

Notice of Intent To Seek Approval To Establish an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than 1 year.

DATES: Written comments on this notice must be received by October 12, 2010 to be assured of consideration. Comments received after that date will be considered to the extent practicable.

FOR FURTHER INFORMATION CONTACT: To request more information on the proposed project or to obtain a copy of the data collection plans and instruments, contact Leslie Goodyear, Ph.D., National Science Foundation, 885 S 4201 Wilson Boulevard, Arlington, Virginia 22230, 703-292-5115, lgoodyea@nsf.gov. Individuals who use a telecommunications device for the deaf (TDD) may call the Federal Information Relay Service (FIRS) at 1-800-877-8339 between 8 a.m. and 8 p.m., Eastern time, Monday through Friday. You may obtain a copy of the data collection instruments and instructions from Dr. Goodyear.

SUPPLEMENTARY INFORMATION:

Title of Collection: A Social Network Analysis of the National Science Foundation's Research and Evaluation on Education in Science and Engineering (REESE) and Discovery Research K-12 (DR K-12) Programs.

OMB Number: 3145-NEW.

Expiration Date of Approval: Not applicable.

Type of request: New.

Abstract: In compliance with the requirement of Section 3506(c)(2)(A) of the Paperwork Reduction Act of 1995, for opportunity for public comment on proposed data collection projects, the Office of the Director, the National Science Foundation (NSF), will publish periodic summaries of proposed projects to be submitted to the Office of Management and Budget (OMB) for review and approval.

A Social Network Analysis of the National Science Foundation's Research and Evaluation on Education in Science and Engineering (REESE) and Discovery Research K-12 (DR K-12) programs. Type of Information Collection Request: New collection. Need and Use of Information Collection: This study will assess the linkages, impacts, influences of NSF's REESE and DR K-12 programs. The primary objectives of the study are to conduct a social network analysis of the REESE and DR-K12 programs to understand the impact and influence of each program and whether there are links between the two programs and to other NSF programs. The findings will provide valuable information concerning the impacts and influences of the grant and grantees and whether the REESE and DR K-12 programs influence broader American society.

Frequency of Response: Once.

Affected Public: Individuals.

Type of Respondents: REESE and DR K-12 Grantees and Grantee Lab Members. There are no Capital Costs to report.

Estimated Number of Respondents: 1325; Estimated Number of Responses per Respondent: 1. Average Burden Hours per Response: .33. Estimated Total Annual Burden Hours Requested: 437.25 and the annualized cost to respondents is estimated at $14,534.19.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: August 4, 2010.
Suzanne H. Plimpton,
Reports Clearance Officer, National Science Foundation.

[FR Doc. 2010-19626 Filed 8-9-10; 8:45 am]

BILLING CODE 7555-01-P